DEPARTMENT OF HEALTH AND HUMAN SERVICES

Centers for Disease Control and Prevention

[30Day-22-0856]

Agency Forms Undergoing Paperwork Reduction Act Review

In accordance with the Paperwork Reduction Act of 1995, the Centers for Disease Control and Prevention (CDC) has submitted the information collection request titled “National Quitline Data Warehouse (NQDW)” to the Office of Management and Budget (OMB) for review and approval. CDC previously published a “Proposed Data Collection Submitted for Public Comment and Recommendations” notice on July 7, 2021 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Quitline Data Warehouse (NQDW) (OMB Control No. 0920-0856, Exp. 10/31/2022)—Revision—National Center for Chronic Disease Prevention and Health Promotion (NCCDPHP), Centers for Disease Control and Prevention (CDC).

Background and Brief Description

Since 2010, the National Quitline Data Warehouse (NQDW) has collected a core set of information from the 50 U.S. states, the District of Columbia, Guam, and Puerto Rico regarding what services telephone quitlines offer to tobacco users as well as the number and type of tobacco users who receive services from telephone quitlines. The data collection was modified in 2015 to collect data from the Asian Smokers' Quitline (ASQ) in addition to the other 53 states/territories that provide data and included five new questions to the NQDW Intake Questionnaire to help CDC and states tailor quitline services to the needs of its callers. Additionally, collection of the NQDW Services Survey was changed from quarterly to semiannually in 2019.

The NQDW provides data on the general smoking population who contact their state quitlines, but also allows for collections of information about key subgroups of tobacco users who contact state quitlines to better support cessation services. Data is collected on tobacco users who received service from state telephone quitlines from all funded U.S. states, territories, and the Asian Smokers' Quitline (ASQ) through the NQDW Intake Questionnaire. The NQDW Seven-Month Follow-up Questionnaire is administered to tobacco users who received services from the ASQ only. Data on the quitline call volume, number of tobacco users served, and the services offered by state quitlines will be provided by state health department personnel who manage the quitline, or their designee, such as contracted quitline service providers, using the NQDW Quitline Services Survey. Data collected from the NQDW is analyzed with simple descriptive data tabulations, and trends are currently reported online through the CDC State Tobacco Activities Tracking and Evaluation (STATE) System website. More complex statistical analyses, including multivariate regression techniques will be utilized to assess quitline outcomes such as quitline reach, service utilization, how callers reported hearing about the quitline, and the effectiveness of quitline promotions and the CDC Tips From Former Smokers national tobacco education media campaigns on state quitline call volume and tobacco users receiving services from state quitlines. CDC uses the information collected by the NQDW for ongoing monitoring, reporting, and evaluation related to state quitlines. Select data from the NQDW are reported online through the CDC's STATE System website (https://www.cdc.gov/statesystem).

CDC requests OMB approval to continue the NQDW information collection for three years. Fifty states, the District of Columbia, Guam, and Puerto Rico continue to receive funding to participate. This Revision reflects inclusion of additional measures, including those related to e-cigarette use and online quitline services, that reflect the impact of new technologies. Adding these measures to the NQDW survey instruments will impose minimal additional burden on states but will substantially improve the utility of the NQDW data to identify use of state quitlines by key tobacco use populations and through modalities other than telephone calls.

Participation in the Caller Intake and Follow-Up Interviews is voluntary for quitline callers. The estimated burden is 10 minutes for a complete intake call conducted with an individual who calls on their own behalf. The estimated burden is one minute for a caller who requests information for someone else, as these callers complete only a subset of questions on the Intake Questionnaire.

As a condition of funding (CDC-RFA-DP20-2001), the 54 cooperative agreement awardees are required to submit NQDW intake data quarterly, and services survey data semiannually. CDC recognizes that awardees incur additional burden for preparing and transmitting summary files with their de-identified caller intake and follow-up data. This burden is acknowledged in the instructions for transmitting the electronic data files. There is a net decrease in burden hours, primarily due to decreases in the overall number of telephone calls to the quitlines, which is estimated to be only partially offset by the use of other quitline modalities.

CDC requests OMB approval for an estimated 68,089 annual burden hours. There is no cost to respondents other than their time to participate.

Estimated Annualized Burden Hours
Type of respondent | Form name | Number of respondents | Number of responses per respondent | Average burden per response (in hours)
Quitline participants who contact the quitline for help for themselves | NQDW Intake Questionnaire (English-complete) | 405,053 | 1 | 10/60
| ASQ Intake Questionnaire (Chinese, Korean, or Vietnamese-complete) | 1,686 | 1 | 10/60
| ASQ Seven-Month Follow-up Questionnaire | 236 | 1 | 7/60
Participants who contact the quitline on behalf of someone else | NQDW Intake Questionnaire (English-subset) | 819 | 1 | 1/60
| ASQ Intake Questionnaire (Chinese, Korean, or Vietnamese-subset) | 249 | 1 | 1/60
Tobacco Control Manager or their Designee/quitline Service Provider | Submission of NQDW Intake Questionnaire Electronic Data File to CDC | 54 | 4 | 1
| Submission of NQDW (ASQ) Seven-Month Follow-up Electronic Data File to CDC | 1 | 1 | 1
| NQDW Quitline Services Survey | 54 | 2 | 20/60

Jeffrey M. Zirger,
Lead, Information Collection Review Office, Office of Scientific Integrity, Office of Science, Centers for Disease Control and Prevention.

[FR Doc. 2022-15732 Filed 7-21-22; 8:45 am]

BILLING CODE 4163-18-P